DEPARTMENT OF AGRICULTURE

Forest Service

Lolo National Forest; Montana; Montana Snowbowl Ski and Summer Resort Expansion

AGENCY: Forest Service, USDA.

ACTION: Notice of intent to prepare an environmental impact statement.

SUMMARY: In accordance with the National Environmental Policy Act, notice is hereby given that the Forest Service, Lolo National Forest will prepare an Draft Environmental Impact Statement (EIS) through a third-party contractor to evaluate and disclose the environmental consequences of the proposed expansion of the Montana Snowbowl Ski Area (MSB) in Missoula County, Montana. The proposed expansion would increase the area of ski runs from approximately 240 to 406 acres, all of which would be on the National Forest. New infrastructure would include five lifts and three skier services buildings totaling about 7,000 square feet. The new permit would also allow summer mountain biking and hiking on the new expansion area of TV Mountain. The expansion may require a Forest Plan amendment since it would include portions of Management Areas 16 and 25 which do not specifically include developed recreation.

DATES: Comments concerning the scope of the analysis should be received by February 15, 2006. The draft environmental impact statement is expected to be available for public review in October 2006 and the final environmental impact statement is expected in February 2007.

ADDRESSES: Submit written or oral comments to Stephanie Lauer, PBS&J, 1120 Cedar Street, Missoula, MT 59802, phone (406) 721-0354. You may also submit comments via e-mail—slauer@pbsj.com.

FOR FURTHER INFORMATION CONTACT: 1. Don Stadler, East Zone NEPA Coordinator/IDT Leader at the Missoula Ranger District, Building 24A, Fort Missoula, Missoula, MT 59804 at (406) 329-3731; or via e-mail—dstadler@fs.fed.us.

2. Barry Dutton, Project Manager or Stephanie Lauer, Assistant Project Manager at PBS&J, 1120 Cedar Street, Missoula, MT 59802 at (406) 721-0354; or via e-mail—bdutton@pbsj.com or slauer@pbsj.com.

SUPPLEMENTARY INFORMATION: Missoula Snowbowl Ski and Summer Resort has operated on Lolo NF lands under a SUP since 1961. Their present SUP was granted under the authority of the National Forest Ski Area Act of 1986 (16 U.S.C. 497b). The Act authorizes the U.S. Forest Service to issue team ski area permits “for the use and occupancy of suitable nordic and alpine skiing operations and purposes” (Section 3(b)). The Act also states that a permit shall encompass such acreage as the Forest Service “determines sufficient and appropriate to accommodate the permittee's need for ski operations and appropriate ancillary facilities” (section 3(b)). Montana Snowbowl Ski and Summer Resort presently has a 40-year permit. The Lolo National Forest has received a proposed, revised Master Plan from Montana Snowbowl, Inc. The revised Master Plan was reviewed by the Lolo National Forest on December 6, 2004. The Lolo National Forest Plan is currently in the process of revision.

Purpose and Need for Action

The expansion is needed to continue safe, high quality recreation and provide the financial capabilities to continue to make improvements and upgrades to the facilities and operation of Montana Snowbowl Ski and Summer Resort.

Proposed Action

Montana Snowbowl, Inc. proposes to expand the Missoula Snowbowl Ski and Summer Resort north of Missoula, Montana. The project would be implemented in 2007 and be completed over a ten-year period. The proposed action is located within and adjacent to the existing ski area, approximately 12 miles north of Missoula, Montana. The existing resort is mainly on the north and west slopes of Big Sky Mountain. The proposed expansion area is mainly on TV Mountain, adjacent to and immediately west of the existing resort. TV Mountain is the site of the original ski area that operated during the 1950s and evolved into the present day MSB. The proposed expansion area is located in the upper end of the Butler Creek and La Valle Creek drainages. Butler Creek and LaValle Creek are tributaries to the Clark Fork River. No inventoried roadless areas would be affected by the proposed expansion.

The current Montana Snowbowl Ski and Summer Resort SUP includes approximately 1,138 acres of Forest Service lands. The proposed action would increase the SUP areas by 1,088 acres, from 1,138 to approximately 2,226 acres. The resort also encompasses an additional 80 acres of private land owned by Montana Snowbowl, Inc. The existing resort and proposed expansion project are located on the Lolo National Forest, which is the lead agency for the project.

The proposed expansion would increase the area of ski runs from approximately 240 to 406 acres, all of which would be on the National Forest. The proposed expansion takes advantage of existing openings wherever possible. Approximately 114 acres of new clearing would be required. New infrastructure would include five lifts and three skier services buildings totaling 7,000 square feet. The new permit would also allow summer mountain biking and hiking on the new expansion area of TV Mountain. The expansion may require a Forest Plan amendment since it would include portions of Management Areas 16 and25 which do not specifically include development recreation. The Lolo National Forest Plan is presently being revised.

Responsible Official

The responsible official for the Montana Snowbowl Ski and Summer Resort Expansion is Deborah L. R. Austin, Forest Supervision, Lolo National Forest.

Nature of Decision To Be Made

The Forest Supervisor of the Lolo National Forest will decide whether to grant a change to the existing Montana Snowbowl Ski and Summer Resort SUP to include an additional 1,088 acres and include provisions to clear additional ski runs, construct five new lifts, three new skier service buildings, and include summer mountain biking and hiking.

Scoping Process

The federal Forest Service is the lead agency for preparing this EIS. The EIS will be prepared through a third-party contractor. The Forest Service will consult with the United States Fish and Wildlife Service when making this decision. The scoping process will include, at a minimum, one public meeting, scoping mailings, and public notices in newspapers of record. The responsible official will make a decision on this proposal after considering comments, responses, environmental consequences, applicable laws, regulations, and policies. The decision and rationale for the decision will be documented in a Record of Decision (ROD).

Permits or Licenses Required

A change to the Montana Snowbowl Ski and Summer Resort SUP would be required as part of the proposed action.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inv. v. Harris, 490 F. Supp. 1334, 1338 (E.D. Wis. 1980). Because of these court rulings, it is very important that those interested in this proposed action participate by the close of the draft environmental impact statement comment period so that substantive comments and objections are made available to the Forest Service at a time when it can meaning fully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal, and will be available for public inspection.

Authority: 40 CFR 1501.7 and 1508.22; Forest Service Handbook 1909.15, Section 21)

Dated: January 3, 2006.
Gary Garthwait,
Acting Forest Supervisor.

[FR Doc. 06-226 Filed 11-12-06; 8:45 am]

BILLING CODE 3410-11-M